DEPARTMENT OF COMMERCE

International Trade Administration

[A-570-836]

Glycine From the People's Republic of China: Final Results of Antidumping Duty Administrative Review and Rescission of Administrative Review, in Part; 2015-2016

AGENCY: Enforcement and Compliance, International Trade Administration, Department of Commerce.

SUMMARY: On April 7, 2017, the Department of Commerce (the Department) published the preliminary results of the administrative review of the antidumping duty order on glycine from the People's Republic of China (PRC), covering the period March 1, 2015, through February 29, 2016. We invited interested parties to comment on the preliminary results. We received comments from a domestic interested party, GEO Specialty Chemicals, Inc. (GEO), a respondent, Baoding Mantong Fine Chemistry Co., Ltd. (Baoding Mantong) and a U.S. importer, Pharm-Rx Chemical Corporation (Pharm-Rx). As a result of comments filed by the parties, we have determined that the U.S. sale reported by Baoding Mantong is not a bona fide sale and the review should be rescinded with respect to this exporter. The final results remain unchanged from the preliminary results of review with respect to the other respondent, Jizhou City Huayang Chemical Co., Ltd. (Huayang Chemical).

DATES: Applicable October 12, 2017.

FOR FURTHER INFORMATION CONTACT: Edythe Artman or Brian Davis, AD/CVD Operations, Office VI, Enforcement and Compliance, International Trade Administration, U.S. Department of Commerce, 1401 Constitution Avenue NW., Washington, DC 20230; telephone: (202) 482-3931 or (202) 482-7924, respectively.

Background

On April 7, 2017, the Department published its notice of preliminary results of review for the administrative review on glycine from the PRC in the Federal Register.¹ A summary of the events that occurred since the Department published these results, as well as a discussion of the issues raised by parties for this final determination, may be found in the Issues and Decision Memorandum, which is hereby adopted by this notice.²

¹ See Glycine from the People's Republic of China: Preliminary Results of Antidumping Duty Administrative Review and Rescission of Antidumping Duty Administrative Review, In Part; 2015-2016, 82 FR 16992 (April 7, 2017) (Preliminary Results).

² See Memorandum to Gary Taverman, Deputy Assistant Secretary for Antidumping and Countervailing Duty Operations, on the subject of “Glycine from the People's Republic of China: Issues and Decision Memorandum for the Final Results of Administrative Review and Rescission of Review, In Part; 2015-2016”, dated concurrently with this notice (Issues and Decision Memorandum).

Scope of the Order

The product covered by this antidumping duty order is glycine, which is a free-flowing crystalline material, like salt or sugar. Glycine is produced at varying levels of purity and is used as a sweetener/taste enhancer, a buffering agent, reabsorbable amino acid, chemical intermediate, and a metal complexing agent. This proceeding includes glycine of all purity levels. Glycine is currently classified under subheading 2922.49.4020 of the Harmonized Tariff Schedule of the United States (HTSUS).³ Although the HTSUS subheading is provided for convenience and customs purposes, the written description of the merchandise under the order is dispositive.

³ In separate scope rulings, the Department determined that: (a) D(-) Phenylglycine Ethyl Dane Salt is outside the scope of the order and (b) PRC-glycine exported from India remains the same class or kind of merchandise as the PRC-origin glycine imported into India. See Notice of Scope Rulings and Anticircumvention Inquiries, 62 FR 62288 (November 21, 1997) and Glycine from the People's Republic of China: Final Partial Affirmative Determination of Circumvention of the Antidumping Duty Order, 77 FR 73426 (December 10, 2012), respectively.

Analysis of Comments Received

All issues raised in the case and rebuttal briefs by parties to this administrative review are addressed in the Issues and Decision Memorandum. A list of the issues raised by parties is attached to this notice as Appendix I. The Issues and Decision Memorandum is a public document and is on file electronically via Enforcement and Compliance's Antidumping and Countervailing Duty Centralized Electronic Service System (ACCESS). ACCESS is available to registered users at https://access.trade.gov and it is available to all parties in the Central Records Unit, Room B8024 of the main Department of Commerce building. In addition, a complete version of the Issues and Decision Memorandum can be accessed directly at http://enforcement.trade.gov/frn/index.html. The signed and electronic versions of the Issues and Decision Memorandum are identical in content.

Changes Since the Preliminary Results

In Comment 1 of the Issues and Decision Memorandum, the Department concluded that the sole U.S. sale reported by Baoding Mantong for the period of review was not a bona fide sale. Consequently, we are rescinding the review with respect to this company. We made no changes to the PRC-wide rate assigned to Pharm-Rx's Chinese supplier, Huayang Chemical, as a result of our analysis of the issues.

Final Results of Review

In the Preliminary Results, we determined that Huayang Chemical failed to establish its eligibility for a separate rate and preliminarily determined to treat the exporter as part of the PRC‐wide entity.⁴ Because no party requested a review of the PRC-wide entity and the Department no longer considers the PRC-wide entity as an exporter conditionally subject to administrative reviews, we did not conduct a review of the PRC-wide entity, and the entity's rate is not subject to change in this review.⁵

⁴ See Preliminary Results at 16992-16993.

⁵ See Antidumping Proceedings: Announcement of Change in Department Practice for Respondent Selection in Antidumping Duty Proceedings and Conditional Review of the Nonmarket Economy Entity in NME Antidumping Duty Proceedings, 78 FR 65963 (November 4, 2013).

Assessment Rates

Pursuant to section 751(a)(2)(C) of the Tariff Act of 1930, as amended (the Act) and 19 CFR 351.212(b), the Department has determined, and CBP shall assess, antidumping duties on all appropriate entries of subject merchandise covered by this review. The Department intends to issue assessment instructions to CBP 15 days after the date of publication of these final results of review. Accordingly, we will instruct CBP to liquidate the entries reported by Baoding Mantong without regard to antidumping duties. The Department also intends to instruct CBP to liquidate entries of subject merchandise from the exporters identified above as being part of the PRC-wide entity (including Huayang Chemical) at the PRC-wide rate, i.e., 453.79 percent.

Pursuant to a refinement in the Department's non-market economy practice, for entries that were not reported in the U.S. sales databases submitted by companies individually examined during this review, the Department will instruct CBP to liquidate such entries at the PRC-wide rate.⁶ Additionally, if the Department determines that an exporter had no shipments of the subject merchandise, any suspended entries that entered under that exporter's case number (i.e., at that exporter's rate) will be liquidated at the PRC-wide rate.⁷

⁶ See Non-Market Economy Antidumping Proceedings: Assessment of Antidumping Duties, 76 FR 65694 (October 24, 2011).

⁷ Id.

Cash Deposit Requirements

The following cash deposit requirements will be effective for all shipments of subject merchandise entered, or withdrawn from warehouse, for consumption on or after the publication date of the final results of this administrative review, as provided by section 751(a)(2)(C) of the Act: (1) For Baoding Mantong and other previously investigated or reviewed PRC and non-PRC exporters which are not under review in this segment of the proceeding but received a separate rate in a previous segment, the cash deposit rate will continue to be the exporter-specific rate published for the most recently-completed period; (2) for all PRC exporters of subject merchandise which have not been found to be entitled to a separate rate, the cash deposit rate will be that for the PRC-wide entity (i.e., 453.79 percent); and (3) for all non-PRC exporters of subject merchandise which have not received their own rate, the cash deposit rate will be the rate applicable to the PRC exporter(s) that supplied the non-PRC exporter. These cash deposit requirements, when imposed, shall remain in effect until further notice.

Notification to Importers

This notice serves as a final reminder to importers of their responsibility under 19 CFR 351.402(f)(2) to file a certificate regarding the reimbursement of antidumping duties prior to liquidation of the relevant entries during this period of review. Failure to comply with this requirement could result in the Department's presumption that reimbursement of antidumping duties occurred and the subsequent assessment of double antidumping duties.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

We are issuing and publishing these results and this notice in accordance with sections 751(a)(1) and 777(i) of the Act.

Dated: October 4, 2017.
Gary Taverman,
Deputy Assistant Secretary for Antidumping and Countervailing Duty Operations performing the non-exclusive functions and duties of the Assistant Secretary for Enforcement and Compliance.

Appendix I

List of Topics Discussed in the Final Issues and Decision Memorandum

I. Summary

II. List of Issues

III. Background

IV. Scope of the Order

V. Discussion of Interested Party Comments

Comment 1: Bona Fides of Baoding Mantong's U.S. Sale

Comment 2: Moot Arguments Concerning Baoding Mantong's Margin Calculations

Comment 3: Assignment of the PRC-Wide Rate to Pharm-Rx Following Judicial Review of the Rate

VI. Recommendation

[FR Doc. 2017-22068 Filed 10-11-17; 8:45 am]

BILLING CODE 3510-DS-P